ENVIRONMENTAL PROTECTION AGENCY

40 CFR Part 52

[EPA-R03-OAR-2017-0413; FRL-9971-40-Region 3]

Approval and Promulgation of Air Quality Implementation Plans; West Virginia; 2015 Ozone National Ambient Air Quality Standards; Withdrawal of Direct Final Rule

AGENCY: Environmental Protection Agency (EPA).

ACTION: Withdrawal of direct final rule.

SUMMARY: Due to receipt of adverse comment, the Environmental Protection Agency (EPA) is withdrawing the direct final rule published on Monday, October 16, 2017, to approve revisions to the West Virginia state implementation plan (SIP). The revisions updated the effective date by which the West Virginia regulations incorporate by reference the national ambient air quality standards (NAAQS), additional monitoring methods, and additional equivalent monitoring methods.

DATES: The direct final rule published at 82 FR 47981, on October 16, 2017, is withdrawn as of December 5, 2017.

FOR FURTHER INFORMATION CONTACT: Joseph Schulingkamp, (215) 814-2021, or by email at schulingkamp.joseph@epa.gov.

SUPPLEMENTARY INFORMATION: On June 13, 2017, West Virginia submitted a SIP revision to update the State's incorporation by reference of federal standards, ambient air monitoring reference methods, and equivalent monitoring reference methods. The SIP revisions updated the effective date by which the West Virginia regulations incorporate by reference the national ambient air quality standards (NAAQS), additional monitoring methods, and additional equivalent monitoring methods. This update was intended to add effectively the following to the West Virginia SIP: The 2015 ozone NAAQS; monitoring reference and equivalent methods pertaining to fine particulate matter (PM2.5), carbon monoxide (CO), and coarse particulate matter (PM10); a revised ozone monitoring season; the Federal Reference Method (FRM); the Federal Equivalent Method (FEM); and the Photochemical Assessment Monitoring Stations (PAMS) network. The effective date of the incorporation by reference changed from June 1, 2013 to June 1, 2017. The SIP revision also sought to change a reference from the “West Virginia Department of Environmental Protection,” to the “Division of Air Quality.”

In the direct final rule published on Monday, October 16, 2017 (82 FR 47981), EPA stated that if we received adverse comment by November 15, 2017, the rule would be withdrawn and not take effect. EPA subsequently received adverse comment. EPA will address the comments received in a subsequent final rulemaking action based upon the proposed action, also published on Monday, October 16, 2017 (82 FR 48033). EPA will not institute a second comment period on this action.

List of Subjects in 40 CFR Part 52

Environmental protection, Air pollution control, Carbon monoxide, Incorporation by reference, Lead, Nitrogen dioxide, Ozone, Particulate matter, Reporting and recordkeeping requirements, Sulfur oxides.

Dated: November 17, 2017.
Cosmo Servidio,
Regional Administrator, Region III.

Accordingly, the amendments to 40 CFR 52.2520(c) published on October 16, 2017 (82 FR 47981) are withdrawn as of December 5, 2017.

[FR Doc. 2017-26077 Filed 12-4-17; 8:45 am]

BILLING CODE 6560-50-P